POSTAL REGULATORY COMMISSION

[Docket No. IM2016-1; Order No. 3253]

Section 407 Proceeding

AGENCY: Postal Regulatory Commission.

ACTION: Notice.

SUMMARY: The Commission is noticing a proceeding to consider whether proposals of the 26th Congress of the Universal Postal Union are consistent with the modern rate regulation standards of 39 U.S.C. 3622. This notice informs the public of the filing, invites public comment, and takes other administrative steps.

DATES: Comments are due: July 21, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Initial Commission Action

III. Ordering Paragraphs

I. Introduction

On April 1, 2016, the Secretary of State requested the Commission's views on whether certain proposals for the 26th Congress of the Universal Postal Union are consistent with the standards and criteria for modern rate regulation established by the Commission under 39 U.S.C. 3622.¹

¹ See Letter from Nerissa J. Cook, Deputy Assistant Secretary, U.S. Department of State, Bureau of International Organization Affairs, on behalf of the Secretary of State, April 1, 2016 (State's Request). See also Letter from Acting Chairman Robert G. Taub, on behalf of the Commission, April 14, 2016.

Pursuant to section 407(c)(1) and 39 CFR part 3017, the Commission establishes Docket No. IM2016-1 for the purpose of developing its views on matters referred to in State's Request.

II. Initial Commission Action

Establishment of docket. Part 3017 of title 39 of the Code of Federal Regulations codifies procedures related to the development of the Commission's section 407 views.² Pursuant to rules 3017.3(a), the Commission establishes this docket to “solicit comments on the general principles that should guide the Commission's development of views on relevant proposals, in a general way, and on specific relevant proposals, if the Commission is able to make these available.” 39 CFR 3017.3(a).

² See Docket No. RM2015-14, Order No. 2960, Order Adopting Final Rules on Procedures Related to Commission Views, December 30, 2015. See also 81 FR 869 (January 8, 2016). The rules in part 3017 took effect on February 8, 2016.

Comments. Rule 3017.4(a) provides that the Commission “shall establish a deadline for comments upon establishment of the docket that is consistent with timely submission of the Commission's views to the Secretary of State.” 39 CFR 3017.4 (a). The Secretary of State has requested that the Commission submit its views by August 21, 2016. State's Request at 1. To ensure timely submission of the Commission's views to the Department of State, the Commission establishes July 21, 2016, as the deadline for submission of comments on the principles that should guide development of its views, as well as those on the consistency of proposals subject to subchapter I of chapter 36 with the standards and criteria of 39 U.S.C. 3622. Comments are to be submitted in the above captioned docket via the Commission's Web site at http://www.prc.gov unless a request for waiver is approved. For assistance with filing, contact the Commission's docket section at 202-789-6846 or dockets@prc.gov.

Public Representative. Section 505 of title 39 requires the designation of an officer of the Commission (public representative) to represent the interests of the general public in all public proceedings. The Commission designates Kenneth E. Richardson as Public Representative in this proceeding.

Availability of documents. Pursuant to rule 3017.3(b), the Commission directs the Secretary of the Commission to arrange for the prompt posting on the Commission's Web site of the correspondence identified in this Order. The Commission will post other documents in this docket when the Commission determines such other documents are applicable and able to be made publicly available.

Federal Register publication. Rule 3017.3(c) requires publication in the Federal Register of the notice establishing a docket authorized under part 3017. 39 CFR 3017.3(c). Pursuant to this rule, the Commission directs the Secretary of the Commission to arrange for prompt publication of this Order in the Federal Register.

III. Ordering Paragraphs

It is ordered:

1. The Commission establishes Docket No. IM2016-1 for purposes related to the development of section 407(c)(1) views and invites public comments related to this effort, as described in the body of this Order.

2. Comments are due no later than July 21, 2016.

3. Pursuant to 39 U.S.C. 505, Kenneth E. Richardson is appointed to serve as an officer of the Commission (Public Representative) to represent the interests of the general public in this docket.

4. The Secretary is directed to post the correspondence referred to in this Order on the Commission's Web site, along with other documents the Commission may determine should be made publicly available.

5. The Secretary shall arrange for publication of this order in the Federal Register.

By the Commission.
Stacy L. Ruble,
Secretary.

[FR Doc. 2016-09511 Filed 4-22-16; 8:45 am]

BILLING CODE 7710-FW-P